DEPARTMENT OF AGRICULTURE

Forest Service

Reinstatement of a Previously Approved Information Collection; Request for Comments; Visitor's Permit Form FS-2300-30 and Visitor Registration Card FS-2300-32

AGENCY: Forest Service, USDA.

ACTION: Notice.

SUMMARY: In accordance with the Paperwork Reduction Act of 1995, the Forest Service announces its intention to request reinstatement of a peviously approved information collection for Visitor's Permit Form FS-2300-30 and Visitor Registration Card Form FS-2300-32. The collected information will help the Forest Service ensure that visitors' use of National Forest System lands is in the public interest and is compatible with the mission of the agency. Information will be collected from National Forest System land visitors, who will be asked to describe their intended use of the land and their estimated duration of use.

DATES: Comments must be received in writing on or before May 1, 2000.

ADDRESSES: All comments should be addressed to the Wilderness Program Manager; Recreation, Heritage, and Wilderness Resources Staff; Mail Drop 1125; Forest Service, USDA; P.O. Box 96090; Washington, DC 20090-6090.

Comments also may be submitted via facsimile to (202) 205-1145 or by email to jstokes/wo@fs.fed.us.

The public may inspect comments in the Office of the Director, Recreation, Heritage, and Wilderness Resources Staff, 201 14th Street, SW, Washington DC Visitors are encouraged to call (202) 205-1706 to facilitate entrance into the building.

FOR FURTHER INFORMATION CONTACT: Jerry Stokes, Wilderness Program Manager, Recreation, Heritage, and Wilderness Resources Staff at (202) 205-0925.

SUPPLEMENTARY INFORMATION:

Background

The Organic Administration Act (16 U.S.C. 473), Wilderness Act (16 U.S.C. 1131), Wild and Scenic Rivers Act (16 U.S.C. 1271), and Executive Order 11644 of February 8, 1972, (Use of Off-Road Vehicles on the Public Lands) authorize the Forest Service to manage National Forest System lands to benefit the land and the people for present and future generations.

Each year, millions of people visit National Forest System lands. These lands include wilderness and special management areas, such as wild and scenic rivers, restricted off-road vehicle areas, and campgrounds. Access to many of these areas requires reservations and/or permits.

The Forest Service developed Visitor's Permit Form FS-2300-30 and Visitor Registration Card Form FS-2300-32 to facilitate visitor access to wilderness and special management areas. Forest Service personnel collect information from visitors as they register or apply for permits to use or visit wilderness or special management areas.

Visitors will be asked to provide their name and address, the site they plan to visit, their expected length of stay, the number of people in their group, their point of entry and point of exit, their primary method of travel, the number of pack or saddle animals they plan to bring, and number of watercraft or vehicles they plan to bring.

Data gathered in this information collection is not available from other sources.

Description of Information Collection

The following describes the information collection to be reinstated:

Title: FS-2300-30, Visitor's Permit.

OMB Number: 0596-0019.

Expiration Date of Approval: October 31, 1999.

Type of Request: This is a request for reinstatement of an information collection previously authorized by the Office of Management and Budget.

Abstract: The Forest Service will analyze the collected data to identify the National Forest System lands and wilderness areas most frequently visited by the public.

Visitor's Permit Form FS-2300-30 will be used only where public access must be managed and/or monitored to prevent damage to the natural resources, to preserve the quality of the visitor's experience, or to provide for public safety.

When asking visitors to complete Form FS-2300-30, Forest Service personnel will take the opportunity to discuss with visitors how they can protect the natural resources while visiting, proper camping techniques they should use, fire prevention, safety, and sanitation requirements. The very issuance of this permit will provide information that will help the Forest Service identify the wilderness and special management areas that will be visited most frequently and will provide the agency with opportunities to encourage people to visit less popular sites.

To determine the estimate of burden, three Forest Service employees not familiar with the form were requested to individually complete Visitor's Permit Form FS-2300-30.

Estimate of Burden: 3 minutes.

Type of Respondents: Individuals and groups requesting use of National Forest System wilderness and special management areas.

Estimated Number of Respondents: 100,000.

Estimated Number of Responses per Respondent: 1.

Estimated Total Annual Burden on Respondents: 5,000 hours.

Description of Information Collection

The following describes the information collection to be reinstated:

Title: FS-2300-32, Visitor Registration Card.

OMB Number: 0596-0019.

Expiration Date of Approval: October 31, 1999.

Type of Request: This is a request for reinstatement of an information collection previously authorized by the Office of Management and Budget.

Abstract: The Visitor Registration Card FS-2300-32, like the Visitor Permit Form FS-2300-30, will provide the Forest Service with information that will help the agency identify National Forest System wilderness and special management areas most frequently visited and will provide the agency with opportunities to encourage people to visit less popular sites. Completing the Visitor Registration Card will be a voluntary exercise by visitors; it is not a requirement for visitation to a site.

Visitor Registration Cards will be available to visitors at field locations, such as trailheads. Visitors will complete the cards and place them in a container designed for that purpose.

To determine the estimate of burden, one Forest Service employee not familiar with the form was asked to complete the Visitor Registration Card FS-2300-32.

Estimate of Burden: 3 minutes.

Type of Respondents: Individuals and groups visiting National Forest System wilderness and special management areas.

Estimated Number of Respondents: 210,000 respondents.

Estimated Number of Responses per Respondent: 1.

Estimated Total Annual Burden on Respondents: 10,500 hours.

Comment is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: February 22, 2000.
Paul Brouha,
Associate Deputy Chief, National Forest Systems.

[FR Doc. 00-4863 Filed 2-29-00; 8:45 am]

BILLING CODE 3410-11-P